DEPARTMENT OF HEALTH AND HUMAN SERVICES

Health Resources and Service Administration

Advisory Committee on Interdisciplinary, Community-Based Linkages; Notice of Meeting

In accordance with section 10(a) (2) of the Federal Advisory Committee Act (Pub. L. 92-463), notice is hereby given of the following meeting:

Name: Advisory Committee on Interdisciplinary, Community-Based Linkages (ACICBL).

Dates And Times: January 28, 2015 (10:00 a.m.-4:00 p.m.).

Place: Webinar and Conference Call Format.

Status: The meeting will be open to the public.

Purpose: The members of the ACICBL will discuss the legislatively mandated 15th Annual Report to the Secretary of Health and Human Services and Congress. The Committee members will discuss programmatic recommendations for each of the programs under Title VII Part D.

The programs under Title VII Part D include: 750—General Provisions; 751—Area Health Education Centers; 752—Continuing Education Support for Health Professionals Serving in Underserved Communities; 753—Education and Training Related to Geriatrics; 754—Quentin N. Burdick Program for Rural Interdisciplinary Training; 755—Allied Health and Other Disciplines; 756—Mental and Behavioral Health Education and Training Grants; 757—Advisory Committee on Interdisciplinary, Community-Based Linkages; and 759—Program for Education and Training in Pain Care. The logistical challenges of scheduling this meeting hindered an earlier publication of this meeting notice.

Agenda: The ACICBL agenda includes an opportunity for members to discuss the content of the 15th Annual Report and to listen to expert presentations to develop the report. The agenda will be available 2 days prior to the meeting on the Heath Resources and Services Administration (HRSA) Web site (http://www.hrsa.gov/advisorycommittees/bhpradvisory/acicbl/acicbl.html). Agenda items are subject to change as priorities dictate.

Public Comment: Requests to make oral comments or provide written comments to the ACICBL should be sent to Dr. Joan Weiss, Designated Federal Official, using the address and phone number below. Individuals who plan to participate on the conference call or webinar should notify Dr. Weiss at least 3 days prior to the meeting, using the address and phone number below. Members of the public will have the opportunity to provide comments. Interested parties should refer to the meeting subject as the HRSA Advisory Committee on Interdisciplinary, Community-Based Linkages.

The conference call-in number is 800-369-1867. The passcode is: 8803797. The webinar link is https://hrsa.connectsolutions.com/acicbl/.

FOR FURTHER INFORMATION CONTACT: Anyone requesting information regarding the ACICBL should contact Dr. Joan Weiss, Designated Federal Official within the Bureau of Health Workforce, Health Resources and Services Administration, in one of three ways: 1) send a request to the following address: Dr. Joan Weiss, Designated Federal Official, Bureau of Health Workforce, Health Resources and Services Administration, Parklawn Building, Room 12C-05, 5600 Fishers Lane, Rockville, Maryland 20857; 2) call (301) 443-0430; or 3) send an email to jweiss@hrsa.gov.

Jackie Painter,
Acting Director, Division of Policy and Information Coordination.

[FR Doc. 2015-00842 Filed 1-20-15; 8:45 am]

BILLING CODE 4165-15-P